INTERNATIONAL TRADE COMMISSION

[Investigation No. 332-345]

Shifts in U.S. Merchandise Trade 2008

AGENCY: United States International Trade Commission.

ACTION: Availability on Commission's Web site of 2009 report on shifts in merchandise trade during 2008; opportunity to submit written comments relating to the 2009 report and possible content of the 2010 report.

SUMMARY: The 2009 report can now be accessed and downloaded from the Commission's Web site at http://www.usitc.gov/research_and_analysis/trade_shifts.htm. The format used by the Commission since 2004 includes links to Commission research and other resources including data, as well as links to other organizations with related information. User feedback on the revised format is encouraged by providing access to the ITC online Reader Satisfaction Survey (http://reportweb.usitc.gov/reader_survey/readersurvey.html). A CD-ROM version of the 2008 report may be requested by contacting the Office of the Secretary at 202-205-2000 or by fax at 202-205-2104. Readers of the report may also provide comments by downloading the survey form and business reply mailer for this publication from the Commission's Web site.

ADDRESSES: All Commission offices, including the Commission's hearing rooms, are located in the United States International Trade Commission Building, 500 E Street, SW., Washington, DC 20436. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Project leader, Jeremy Wise, Office of Industries (202-205-3190 or jeremy.wise@usitc.gov) or deputy project leader Brendan Lynch (202-205-3313 or brendan.lynch@usitc.gov). For information on the legal aspects, please contact William Gearhart, Office of General Counsel (202-205-3091 or william.gearhart@usitc.gov). The media should contact Margaret O'Laughlin, Public Affairs Officer (202-205-1819 or margaret.olaughlin@usitc.gov). Hearing impaired individuals are advised that information on this matter can be obtained by contacting the TDD terminal on 202-205-2648.

Background: The Commission has prepared and published annual reports on U.S. trade shifts in selected industries/commodity areas under investigation No. 332-345 since 1993. Beginning in 2004, the Commission converted the report to an exclusively web-based format (with added focus on sectoral issues) that can be accessed electronically. The initial notice of institution of this investigation was published in the Federal Register of September 8, 1993 (58 FR 47287). The Commission expanded the scope of this investigation to cover services trade in a separate report, which it announced in a notice published in the Federal Register of December 28, 1994 (59 FR 66974). The merchandise trade report has been published in the current series under investigation No. 332-345 annually since September 1993.

This year's Web-based format identifies the key trends affecting principal foreign markets and 10 major U.S. sectors.

By order of the Commission.
Issued: August 6, 2009.
Marilyn R. Abbott,
Secretary to the Commission.

[FR Doc. E9-19378 Filed 8-12-09; 8:45 am]

BILLING CODE 7020-02-P